DEPARTMENT OF TRANSPORTATION

Federal Motor Carrier Safety Administration

[Docket No. FMCSA-2006-26367]

Motor Carrier Safety Advisory Committee (MCSAC); Notice of Public Meeting

AGENCY: Federal Motor Carrier Safety Administration (FMCSA), Department of Transportation (DOT).

ACTION: Notice of public meeting.

SUMMARY: This notice announces a virtual meeting of the MCSAC, which will take place via videoconference.

DATES: The meeting will be held on Tuesday, December 17 and Wednesday, December 18, 2024, from 10 a.m.-4 p.m. ET each day. Requests for accommodations for a disability must be received by Friday, December 6. Requests to submit written materials for consideration during the meeting must be received no later than Friday, December 6.

ADDRESSES: The meeting will be in a virtual format for its entirety. Please register in advance of the meeting at www.fmcsa.dot.gov/mcsac. A copy of the agenda will be made available at www.fmcsa.dot.gov/mcsac 1 week in advance of the meeting. Once approved, copies of the meeting minutes will be available at the website following the meeting. You may visit the MCSAC website at www.fmcsa.dot.gov/mcsac for further information on the committee and its activities.

FOR FURTHER INFORMATION CONTACT: Ms. Shannon L. Watson, Deputy Designated Federal Officer, MCSAC, FMCSA, 1200 New Jersey Avenue SE, Washington, DC 20590, (202) 360-2925, mcsac@dot.gov. Any committee-related request should be sent to the person listed in this section.

SUPPLEMENTARY INFORMATION:

I. Background

Purpose of the Committee

MCSAC was established to provide FMCSA with advice and recommendations on motor carrier safety programs and motor carrier safety regulations. MCSAC is composed of 20 voting representatives from the motor carrier safety advocacy, safety enforcement, labor, and industry sectors. The diversity of MCSAC ensures the requisite range of views and expertise necessary to discharge its responsibilities. MCSAC operates as a statutory committee under the authority of the U.S. Department of Transportation (DOT), established in accordance with the provisions of the Federal Advisory Committee Act (FACA), as amended (5 U.S.C. ch. 10).

Meeting Agenda

Agenda topics for the meeting will include:

• Ethics Briefing—An attorney from FMCSA's Office of Chief Counsel will conduct MCSAC's annual ethics training;

• Truck Parking—FMCSA will provide a presentation of Federal and State efforts to increase truck parking, and task the MCSAC to provide recommendations concerning additional government and private sector actions that should be considered to increase parking; and

• CMV Crash Data Trends and Seat Belt Usage—FMCSA will present a review of truck crash data and, truck occupant fatality/injury data and the percentage of these drivers that were not wearing their seat belts. The Agency will engage the MCSAC to identify opportunities to promote greater levels of seat belt usage among CMV drivers.

II. Meeting Participation

Advance registration is required. Please register at www.fmcsa.dot.gov/mcsac by the deadline referenced in the DATES section. The meeting will be open to the public for its entirety. The U.S. Department of Transportation is committed to providing equal access to this meeting for all participants. If you need alternative formats or services because of a disability, such as sign language, interpretation, or other ancillary aids, please contact the person listed in the FOR FURTHER INFORMATION CONTACT section.

Oral comments from the public will be heard during a public comment period at the discretion of the MCSAC chair and Designated Federal Officer. FMCSA asks individuals to limit their comments to two minutes on the issues under consideration only. Members of the public may submit written comments to the person listed in the FOR FURTHER INFORMATION CONTACT section on the topics to be considered during the meeting by the deadline referenced in the DATES section.

Larry W. Minor,
Associate Administrator for Policy.

[FR Doc. 2024-28236 Filed 12-2-24; 8:45 am]

BILLING CODE 4910-EX-P